DEPARTMENT OF THE TREASURY

Agency Information Collection Activities; Submission for OMB Review; Comment Request; Internal Revenue Service Request for the Annual Return/Report of Employee Benefit Plan

AGENCY: Departmental Offices, Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before February 5, 2021 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Internal Revenue Service (IRS)

Title: Annual Return/Report of Employee Benefit Plan.

OMB Control Number: 1545-1610.

Type of Review: Revision of a currently approved collection.

Description: The Annual Return/Report of Employee Benefit Plan is an annual information return filed by employee benefit plans. The IRS uses this information for a variety of matters, including ascertainment whether a qualified retirement plan appears to conform to requirements under the Internal Revenue Code or whether the plan should be audited for compliance. Form 5500-EZ (OMB Number: 1545- 0956) is an annual return filed by a one participant (owners/partners and their spouses) retirement plan or a foreign plan to satisfy certain annual reporting and filing requirements imposed by the Internal Revenue Code (Code). The IRS uses this data to determine if the plan appears to be operating properly as required under the Code or whether the plan should be audited. The revisions to the collection are: not releasing Form 5500-SUP; adding a checkbox to Form 5500, 5500-SF, and Form 5500-EZ for an initial plan retroactively adopted as permitted by SECURE Act section 201; and adding checkboxes for an extension of time to Form 5500-EZ.

Form: 5500 and Schedules.

Affected Public: Businesses or other for-profit organization, Individuals and Households, and Not-for-profit institutions.

Estimated Number of Respondents: 929,000.

Frequency of Response: Annually.

Estimated Total Number of Annual Responses: 929,000.

Estimated Total Annual Burden Hours: 934,830 hours.

Authority: 44 U.S.C. 3501 et seq.

Dated: December 31, 2020.
Molly Stasko,
Treasury PRA Clearance Officer.

[FR Doc. 2020-29304 Filed 1-5-21; 8:45 am]

BILLING CODE 4830-01-P